DEPARTMENT OF TRANSPORTATION

Federal Aviation Administration

14 CFR Part 71

[Docket No. FAA-2018-0770; Amendment No. 71-50]

RIN 2120-AA66

Airspace Designations; Incorporation by Reference

AGENCY: Federal Aviation Administration (FAA), DOT.

ACTION: Final rule, correction.

SUMMARY: This action corrects a final rule published in the Federal Register of August 28, 2018, that amends Title 14 Code of Federal Regulations (14 CFR) part 71 relating to airspace designations to reflect the approval by the Director of the Federal Register of the incorporation by reference of FAA Order 7400.11C, Airspace Designations and Reporting Points. This action corrects the Airspace Designations and Reporting Points, signature date from August 8, 2017, to August 13, 2018.

DATES: These regulations are effective September 15, 2018, through September 15, 2019. The incorporation by reference of FAA Order 7400.11C is approved by the Director of the Federal Register as of September 15, 2018, through September 15, 2019.

FOR FURTHER INFORMATION CONTACT: Sarah A. Combs, Airspace Policy Group, Office of Airspace Services, Federal Aviation Administration, 800 Independence Avenue SW, Washington, DC 20591; telephone: (202) 267-8783.

SUPPLEMENTARY INFORMATION:

History

The FAA published a final rule in the Federal Register (83 FR 43759; August 28, 2018) for Docket No. FAA-2018-0770 amending Title 14 Code of Federal Regulations (14 CFR) part 71 relating to airspace designations to reflect the approval by the Director of the Federal Register of the incorporation by reference of FAA Order 7400.11C, Airspace Designations and Reporting Points. Subsequent to publication, the FAA found that the signature date for the FAA Order 7400.11C, Airspace Designations and Reporting Points, under the Availability and Summary of Documents for Incorporation by Reference section is incorrect. This action corrects the date from August 8, 2017 to August 13, 2018.

Correction to Final Rule

Accordingly, pursuant to the authority delegated to me, Airspace Designations; Incorporation by Reference, published in the Federal Register of August 28, 2018 (83 FR 43756), FR Doc. 2018-18507, is corrected as follows:

§ 71.1 [Amended]

On page 43756, column 3, line 43, under Availability and Summary of Documents for Incorporation by Reference remove “August 8, 2017” and add in its place “August 13, 2018”, and on page 43757, row 1, line 48, remove “August 8, 2018” and add in its place “August 13, 2018”.

Issued in Washington, DC, on August 29, 2018.
Scott M. Rosenbloom,
Acting Manager, Airspace Policy Group.

[FR Doc. 2018-19349 Filed 9-6-18; 8:45 am]

BILLING CODE 4910-13-P